DEPARTMENT OF HOMELAND SECURITY

Federal Emergency Management Agency

44 CFR Part 67

[Docket No. FEMA-B-7453]

Proposed Flood Elevation Determinations

AGENCY: Federal Emergency Management Agency (FEMA), Emergency Preparedness and Response Directorate, Department of Homeland Security.

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Mitigation Division, Emergency Preparedness and Response Directorate, Federal Emergency Management Agency, 500 C Street SW., Washington, DC 20472, (202) 646-2903.

SUPPLEMENTARY INFORMATION: FEMA proposes to make determinations of BFEs and modified BFEs for each community listed below, in accordance with Section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR Part 10, Environmental Consideration. No environmental impact assessment has been prepared.

Regulatory Flexibility Act. The Mitigation Division Director of the Emergency Preparedness and Response Directorate certifies that this proposed rule is exempt from the requirements of the Regulatory Flexibility Act because proposed or modified BFEs are required by the Flood Disaster Protection Act of 1973, 42 U.S.C. 4104, and are required to establish and maintain community eligibility in the NFIP. No regulatory flexibility analysis has been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376, § 67.4

2. The tables published under the authority of § 67.4 are proposed to be revised to read as follows:

State | City/town/county | Source of flooding | Location | *Elevation in feet (NGVD): Existing | *Elevation in feet (NGVD): Modified
California | Redding, Shasta County | Churn Creek | Approximately 250 feet upstream of (Upper) Churn Creek Road | *465 | *465
|  |  | Approximately 3,350 feet upstream of (Upper) Churn Creek Road | *472 | *471
California | Shasta County | Churn Creek | At the confluence of Churn Creek and the Sacrament River | None | *410
|  |  | Approximately 250 feet upstream of (Upper) Churn Creek Road | None | *465
*National Geodetic Vertical Datum 1929
Maps are available for inspection at City Hall, 777 Cypress Avenue, 1st Floor, Redding, CA 96001.
Send comment to The Honorable John Mathena, Mayor, City of Redding, 777 Cypress Avenue, 3rd Floor, Redding, CA 96001.
Maps are available for inspection at the County Courthouse, 1855 Placier Street, Redding, CA 96001.
Send comments to The Honorable Glen Hawes, Chairman, Shasta County Board of Supervisors, 1815 Yuba Street, Suite 1, Redding, CA 96001.
California | Sonoma County | Russian River | At confluence with Dry Creek | *84 | *85
|  |  | At U.S Highway 101 | *88 | *90
California | Healdsburg, Sonoma County | Russian River | Just upstream of U.S. Highway 101 | *88 | *90
|  |  | Approximately 6,750 feet Railroad | *104 | *104
California | Healdsburg, Sonoma County | Russian River-Split Flow | At the Convergence with Russian River | None | *90
|  |  | At the Divergence from Russian River | None | *99
*National Geodetic Vertical Datum 1929
Maps are available for inspection at City of Healdsburg, City Hall, 401 Grove Street, Healdsburg, CA 95448.
Send comments to The Honorable Jason Liles, Mayor, City of Healdsburg, 401 Grove Street, Healdsburg, CA 95448.
Maps are available for inspection at Permit and Resource Management Department, 2550 Ventura Avenue, Santa Rosa, CA 95403.
Send comments to The Honorable Tim Smith, Chairman, Sonoma County, 575 Administration Drive, Suite 100A, Santa Rosa, CA 95403.
Iowa | Tama County | Deer Creek | Approximately 2,700 feet upstream of confluence of Deer Creek with Iowa River | None | +819
|  |  | Approximately 400 feet downstream of 13th Street | None | +823
Iowa | Tama County | Iowa River | Approximately 1,400 feet downstream of Iowa River | None | +784
|  |  | Approximately 2 miles upstream of Station Street | None | +788
Iowa | Tama County | Iowa River at City of Tama | Approximately 7,000 feet downstream of U.S highway 63 | None | +814
|  |  | Approximately 1,800 feet upstream of confluence of Deer Creek with Iowa River | None | +819
Iowa | Tama County | Mud Creek | At Confluence with Iowa River | None | +814
|  |  | Just downstream of 9th Street | None | +836
Iowa | Tama County | Otter Creek | Just west of the intersection of Station Street and Highway 212 | None | +785
+North American Vertical Datum 1988
Maps are available for inspection at the 100 North Main Street, Toledo, Iowa 52342.
Send comments to The Honorable Jim Ledvina, Chairman, Tama County Board of Supervisors, P.O. Box 61, Toledo, Iowa 52343.
Missouri | Linn | Long Branch Creek | Just upstream of Highway 11 | None | +735
|  |  | Approximately 1,800 feet downstream of Iva Road | None | +737
Missouri | Linn | West Yellow Creek | Approximately 2,000 feet downstream | None | +727
|  |  | Just downstream of Highway 11 | None | +734
+North American Vertical Datum 1988
Maps are available for inspection at the Linn County, County Courthouse, 108 North High Street, Linneus, Missouri 64653.
Send comments to The Honorable Rick Solmonson, Presiding Commissioner, Linn County, 108 North High Street, Room 103, Linneus, MO 64653-0092.
North Dakota | Pembina County | Pembina River | At 145th Avenue, NE | None | +831
|  |  | Approximately 1.7 miles upstream of State Highway 18 | None | +841
North Dakota | Neche (City), Pembina County | Pembina River | Approximately 3,000 feet upstream of 145th Avenue NE | None | +832
|  |  | At State Highway 18 | None | +835
+North American Vertical Datum 1988
Maps are available for inspection at the County Courthouse, 301 Dakota Street West, Suite 1, Cavalier, North Dakota 58220.
Send comments to The Honorable Gary Nilssen, Chairman, Pembina County Board of Commissioners, 301 Dakota Street West, Suite 1, Cavalier, North Dakota 58220.
Maps are available for inspection at City Hall, 531 5th Street, Neche, North Dakota 58265.
Send comments to The Honorable Lee Beattie, Mayor, City of Neche, P.O. Box 82, Neche, North Dakota 58265.
Oregon | Polk County (Uninc. Areas) | North Fork Ash Creek | Confluence with Middle Fork Ash Creek | +174 | +177
|  |  | At Hoffman Road | +178 | +180
Oregon | City of Independence, City of Monmouth, Polk County (Uninc. Areas) | Ash Creek | Approximately 100 feet downstream of Gun Club Road | +163 | +167
|  |  | At confluence of Middle Fork Ash Creek and North Fork Ash Creek | +174 | +177
| City of Independence | Ash Creek | At confluence with Ash Creek | None | +168
Oregon | City of Monmouth, Polk County (Uninc. Areas) | Overflow Channel | At divergence from Ash Creek | None | +177
+North American Vertical Datum
ADDRESSES
Unincorporated Areas of Polk County
Maps are available for inspection at the Community Development, 850 Main Street, Dallas, Oregon 97338.
Send comments to Chairman, Ron Dodge, 850 Main Street, Dallas, Oregon 97338.
City of Independence
Maps are available for inspection at Community Development, 240 Monmouth Street, Independence, Oregon 97351.
Send comments to the Honorable John McArdle, 240 Monmouth Street, Independence, Oregon 97351.
City of Monmouth
Maps are available for inspection at Community Development, 240 Monmouth Street, Independence, Oregon 97351.
Send comments to the Honorable Larry Dalton, 151 West Main Street, Monmouth, Oregon 97361.
Utah | Summit County | East Canyon Creek | Approximately 2,200 feet upstream of confluence with Threemile Canyon Creek | None | +6,313
|  |  | Approximately 150 feet of upstream of Bitner Branch Road | None | +6,375
Utah | Summit County | Kimball Creek | At confluence with North Parkley's Park Drainage | None | +6,375
|  |  | Just downstream of Old Ranch Road Canal | None | +6,438
Utah | Summit County | McLeod Creek | At Canal Entrance Culvert | None | +6,506
|  |  | Approximately 350 feet downstream of Route 224 | None | +6,629
Utah | Summit County | North Parkley's Park Drainage | At the confluence with Kimball Creek | None | +6,375
|  |  | Approximately 15,800 feet upstream of confluence with Kimball Creek | None | +6,430
Utah | Summit County | Red Pine Creek | At confluence with McLeod Creek | None | +6,538
|  |  | Approximately 100 feet downstream of Route 224 | None | +6,694
Utah | Summit County | McLeod Creek through Quarry Mountain | Just upstream of Old Ranch Road Canal | None | +6,438
|  |  | At divergence from McLeod Creek | None | +6,584
+North American Vertical Datum 1988
Maps are available for inspection at Summit County Courthouse, 60 North Main, Coalville, UT 84017.
Send comments to The Honorable Kenneth Woolstenhulme, Chairman, Summit County, P.O. Box 128, Coalville, Utah 84017.
Virginia | Shenandoah County | Stony Creek | Approximately 1,150 feet downstream of Dellinger Acres Road | None | *1,082
|  |  | Approximately 1.63 miles upstream of Lake Laura Dam | None | *1,375
*National Geodetic Vertical Datum 1929
Maps are available for inspection at Planning and Zoning Office, 600 North Main Street, Suite 107, Woodstock, VA 22664.
Send comments to Mr. Vincent Poling, Administrator, Shenandoah County, 600 North Main Street, Suite 102, Woodstock, VA 22664.
Washington | Ferry County | Sanpoil River | At border with Colville Indian Reservation | None | +2,025
|  |  | Approximately 600 feet upstream of Fish Hatchery Road (Route 21) | None | +2,430
+North American Vertical Datum 1988
Maps are available for inspection at County Courthouse, 290 East Tessie Avenue, Republic, WA 99166.
Send comments to Mr. Dennis Snook, Chairman, Ferry County, 290 East Tessie Avenue, Republic, WA 99166.

Flooding source(s) | Location of referenced elevation | Elevation in feet *(NGVD) Elevation in feet +(NAVD): Effective | Elevation in feet *(NGVD) Elevation in feet +(NAVD): Modified | Communities affected
Coweta County, Georgia and Incorporated Areas
Little Wahoo Creek | Approximately 130 feet upstream of confluence with Wahoo Creek | +799 | +800 | Coweta County (Uninc. Areas).
| Approximately 1,100 feet upstream of confluence with Wahoo Creek | +799 | +800
Snake Creek | Approximately 170 feet upstream of confluence with Wahoo Creek | +795 | +796 | Coweta County (Uninc. Areas).
| Approximately 4,200 feet upstream of confluence with Wahoo Creek | +800 | +801
Tributary 1 to Persimmon Creek | At confluence with Persimmon Creek | +868 | +866 | Coweta County (Uninc. Areas).
| Approximately 120 feet upstream of confluence with Permission Creek | +867 | +866
Tributary 1 to Snake Creek | At confluence with Snake Creek | +874 | +873 | City of Newman.
| Approximately 40 feet upstream of confluence with Snake Creek | +874 | +873
Tributary 2 to Mineral Spring Branch | At confluence with Mineral Spring Branch | +831 | +830 | Coweta County (Uninc. Areas).
| Approximately 780 feet upstream of Fourth Street | +831 | +830
Tributary 2 to Sandy Creek | At confluence with Tributary 3 to Sandy Creek | +792 | +793 | Coweta County (Uninc. Areas).
| Approximately 30 feet upstream of confluence with Tributary 3 to Sandy Creek | +792 | +793
Tributary 2 to Shoal Creek | Approximately 500 feet upstream of confluence with Shoal Creek | +838 | +839 | Coweta County (Uninc. Areas).
| Approximately 1,720 feet upstream of confluence with Shoal Creek | +838 | +839
Tributary 3 to Shoal Creek | Approximately 140 feet upstream of confluence with Shoal Creek | +853 | +854 | Coweta County (Uninc. Areas).
| Approximately 500 feet upstream of confluence with Shoal Creek | +853 | +854
Tributary 3 to Wahoo Creek | Approximately 110 feet upstream of confluence with Tributary 2 to Wahoo Creek | +867 | +868 | City of Newman
| Just downstream of Bullsboro Drive/State Highway 34 | +868 | +869
Tributary 4 to Wahoo Creek | Approximately 100 feet upstream of confluence with Tributary 3 to Wahoo Creek | +872 | +873 | City of Newman
| Approximately 650 feet upstream of confluence with Tributary 3 to Wahoo Creek | +872 | +873
Tributary 6 to Wahoo Creek | At confluence with Tributary 2 to Wahoo Creek | +880 | +881 | City of Newman
| Approximately 160 feet upstream of confluence with Tributary 2 to Wahoo | +880 | +881
Tributary 9 to Wahoo Creek | At confluence with Wahoo Creek | +874 | +875 | City of Newman
| Approximately 600 feed upstream of confluence with Wahoo Creek | +874 | +875
Tributary 10 to Wahoo Creek | Approximately 220 feet upstream of confluence with Wahoo Creek | +881 | +882 | City of Newman
| Approximately 420 feet upstream of confluence with Wahoo Creek | +881 | +882
Tributary 12 to Wahoo Creek | At confluence with Wahoo Creek | +893 | +891 | City of Newman
| Approximately 270 feet upstream of confluence with Wahoo Creek | +895 | +896
+North American Vertical Datum
ADDRESSES
City of Newnan
Maps are available for inspection at the Community Map Repository, 25 LaGrange Street, Newnan, GA.
Send comments to The Honorable L. Keith Brady, Mayor, City of Newnan, 25 LaGrange Street, Newnan, GA 30263.
Coweta County (Unincorporated Areas):
Maps are available for inspection at the Community Map Repository, 22 East Broad Street, Newnan, GA.
Send comments to The Honorable Larry DeMoss, Chairman, Coweta County Commissioners, 22 East Broad Street, Newnan, GA 30263.
DeKalb County, Indiana and Incorporated Areas
Cedar Creek | County Road 31 | +895 | +894 | DeKalb County (Uninc. Areas).
| County Road 35 (near County Road 36 Intersection) | +868 | +867 |
Cedar Creek | Approximately 1,730 feet upstream of East First Street (Corporate Limits) | +861 | +860 | City of Auburn.
| CSX Railroad | +852 | +851
| Approximately 1,200 feet downstream of CSX Railroad (Corporate Limits) | +851 | +849
Cedar Creek | Center Street | +889 | +888 | Town of Waterloo.
| County Road 28 | +881 | +879
St. Joe River | County Route 64 | +798 | +797 | DeKalb County (Uninc. Areas).
| County Route 68 | +794 | +793
+North American Vertical Datum
ADDRESSES
DeKalb County (Unincorporated Areas)
Maps available for inspection at DeKalb County Plan Commission, 301 South Union Street., Auburn, Indiana 46706.
Send comments to Sally Rowe, Zoning Administrator, 301 S. Union St., Auburn, Indiana 46706.
Town of Hamilton
Maps available for inspection at the Zoning Administrator's Office, 7750 South Wayne Street, Hamilton, Indiana 46742.
Send comments to Keith Smith, Zoning Administrator, 7750 South Wayne Street, Hamilton, Indiana 46742.
City of Auburn
Maps available for inspection at the Building, Planning and Development Department, 210 Cedar St., Auburn, Indiana.
Send comments to Bill Spohn, Administrator, Building, Planning and Development, 210 Cedar St., P.O. Box 506, Auburn, Indiana 46706.
City of Butler
Maps available for inspection at Butler City Utility Office, 201 South Broadway, Butler, Indiana.
Send comments to Amy Schweitzer, City Planner, 201 South Broadway, Butler, Indiana 46721.
City of Garrett
Maps available for inspection at Garrett Planning Department, 130 South Randolph St., Garrett, Indiana.
Send comments to Steve Bingham, Planning Director, City of Garrett, P.O. Box 332, Garrett, Indiana 46738.
Maps available for inspection at Corunna Town Hall, 102 N. Bridge St., Corunna, Indiana.
Send comments to Cassandra Lynch, Clerk Treasurer, 102 N. Bridge St., P.O. Box 62, Corunna, Indiana 40730.
Town of Waterloo
Maps available for inspection at Town Hall, 280 N. Wayne Street, Waterloo, Indiana.
Send comments to DeWayne Nodine, 280 N. Wayne Street, P.O. Box 96, Waterloo, Indiana 46793.
Town of St. Joe
Maps available for inspection at St. Joe Town Hall, 102 Third St., St. Joe, Indiana.
Send comments to Laura Spuller, Clerk Treasurer, 102 Third St., P.O. Box 293, St. Joe, Indiana 46785.
Town of Ashley
Maps available for inspection at Town Clerk-Treasurer's Office, 500 S. Gonser Ave., Ashley, Indiana.
Send comments to Don Farrington, Town Superintendent, Town of Ashley, P.O. Box 70, Ashley, Indiana 46705.
Town of Altona
Maps available for inspection at Town Clerk-Treasurer's Office, 1202 W. Quincy St., Garrett, Indiana.
Send comments to Max Milks, Clerk-Treasurer, 1202 W. Quincy St., Garrett, Indiana 46738.
Calcasieu Parish, Louisiana and Incorporated Areas
Bayou Contraband | At the confluence of Bayou Contraband and Calcasieu River | *9.4 | *9.5 | City of Lake Charles.
| Approximately 500 feet upstream from Tom Herbert Road | None | *13.7
East Branch Bayou Contraband | At the Confluence of Bayou Contraband and East Branch Bayou | *13.5 | *9.5 | Calcasieu Parish (Uninc. Areas) and City of Lake Charles.
| Approximately 750 feet downstream from Fontenot Drive | *17.5 | *14
South Branch Bayou Contraband | At the confluence of South Branch of Bayou Contraband and Bayou Contraband | *10.5 | *9 | City of Lake Charles.
| At the intersection of Central Parkway and Greenway. | None | *14
*National Geodetic Vertical Datum
Unincorporated Areas of Calcasieu Parish
Maps are available for inspection at the Planning and Development Department, 1015 Pithon Street, Lake Charles, LA, 70601.
Send comments to Honorable Hal McMillian, President of Calcasieu Parish, 1015 Pithon Street, Lake Charles, LA, 70601.
City of Lake Charles
Maps are available for inspection at the Seventh Floor of City Hall, 326 Pujo Street, Lake Charles, LA 70761.
Send comments to Honorable Randy Roach, Mayor of the City of Lake Charles, 326 Pujo Street, Lake Charles, LA, 70761.
Berrien County, Michigan and Incorporated Areas
Bedortha Drain | Just downstream of Lake Street | *615 | *617 | City of Bridgman.
| 250 feet upstream of Railroad | None | *637 |
Bridgman City Drain | Confluence of Bedortha Drain | *623 | *627 | City of Bridgman .
| Approximately 1,250 feet upstream of Railroad | None | *644
Bridgman Drain Tributary | Confluence with Bridgman City Drain | *630 | *631 | City of Bridgman.
| Approximately 370 feet downstream of Railroad | *631 | *632
Lake Michigan | Shoreline for entire county | *584 | *585 | Benton Township, Benton Harbor, Bridgman, Chikaming Township, Grand Beach, Hagar Township, Lake Township, Lincoln Township, Michiana, New Buffalo, New Buffalo Township, Shoreham, St. Joseph.
Tanner Creek | Confluence with Lake Michigan | *584 | *585 | City of Bridgman.
| Confluence with Bedortha Drain | *610 | *617
William & Esseg Drain | Confluence with Tanner Creek | *610 | *617 | City of Bridgman.
| Bridgman City Limit | *629 | *630
*National Geodetic Vertical Datum
ADDRESSES
City of Benton Harbor
Maps are available for inspection at-Benton Harbor City Hall, 200 E. Wall Street, Benton Harbor, Michigan 49023.
Send comments to Wilce L. Cooke, 200 E. Wall Street., Benton Harbor, Michigan 49023.
Benton Township
Maps are available for inspection at Inspection Department-Benton Township, 1725 Territorial Road, Benton Harbor, MI 49022.
Send comments to Ron Fergeson, Supervisor, 1725 Territorial Road, Benton Harbor, Michigan 49022.
City of Bridgman
Maps are available for inspection at Bridgman City Hall, 9765 Maple Street Bridgman, Michigan 49106.
Send comments to Ron Birmingham, 9765 Maple Street Bridgman, Michigan, 49106.
Chikaming Township
Maps are available for inspection at Chikaming Township, 14900 Lakeside Road, Lakeside, Michigan 49116.
Send comments to Nan Zimmerman, Supervisor, 14900 Lakeside Road, or P.O. Box 305, Lakeside, Michigan 49116.
Village of Grand Beach
Maps are available for inspection at Village Office of Grand Beach, 48200 Perkins Boulevard, Grand Beach, Michigan 49117.
Send comments to James Bracewell, President, 48200 Perkins Boulevard, Grand Beach, Michigan 49117.
Hagar Township
Maps are available for inspection at Hager Township Hall, 3900 Riverside, Riverside, Michigan 49084.
Send comments to Eugene Jarvis, 3900 Riverside, Riverside, Michigan, 49084.
Lake Township
Maps are available for inspection at Lake Township Hall, 3220 Shawnee Road, Bridgman, Michigan 49106.
Send comments to Loren Berndt, 3220 Shawnee Road or P.O. Box 818, Bridgman, Michigan 49106.
Lincoln Township
Maps are available for inspection at 2055 West John Beers Road, Stevensville, Michigan 49127.
Send comments to Dick Stauffer, Supervisor, 2055 West John Beers Road, Stevensville, Michigan 49127.
Village of Michiana
Maps are available for inspection at Village of Michiana, 4000 Cherokee Drive, Michiana, Michigan 49117.
Send comments to Ellen Fiedler, President, 4000 Cherokee Drive, Michiana, Michigan 49117.
City of New Buffalo
Maps are available for inspection at City Clerks Office-New Buffalo City Hall, 224 West Buffalo Street, New Buffalo, Michigan 49117.
Send comments to Jack Kennedy, 224 West Buffalo Street, New Buffalo, Michigan 49117.
New Buffalo Township
Maps are available for inspection at Town Hall-New Buffalo Township, 17425 Red Arrow Highway, New Buffalo, Michigan 49117.
Send comments to Agnes Conway, Supervisor, 17425 Red Arrow Highway, New Buffalo, Michigan 49117.
Village of Shoreham
Maps are available for inspection at St. Joseph Town Hall-Building & Zoning Department, 3000 Washington Avenue, St. Joseph, Michigan 49085.
Send comments to Lawrence Larson, President, 2862 Garden Lane, West St. Joseph, Michigan 49085.
City of St. Joseph
Maps are available for inspection at City of St. Joseph, 700 Broad Street, St. Joseph, Michigan 49085.
Send comments to Frank Walsh, 700 Broad Street, St. Joseph, Michigan 49085.
Macomb County, Michigan and Incorporated Areas
Auvase Creek | Approximately 80 feet downstream of Graham Drive. | +581 | +583 | Chesterfield Township.
| *Approximately 1,600 feet upstream of Farm Road. | None | +593
Crapaud Creek | Approximately 320 feet upstream of Perrin Street. | +579 | +581 | City of New Baltimore.
| Approximately 1,100 feet upstream of Ashley Street. | +585 | +586
East Pond Creek | 100 feet downstream of Grand Trunk Western Railroad. | None | +751 | Bruce Township.
| At 34 Mile Road. | None | +884
North Branch Clinton River | 9,100 feet downstream of 23 Mile Road. | None | +601 | Macomb Township,
| At Boardman Road | None | +784 | Ray Township, Bruce Township.
Lake St. Clair | Entire Shoreline | +578 | +579 | Harrison Township, St. Clair Shores, Lake Township.
Anchor Bay | Entire Shoreline | +578 | +580 | City of New Baltimore, Chesterfield Township, Harrison Township.
+North American Vertical Datum
ADDRESSES
Macomb County (Unincorporated Areas)
Maps are available for inspection at Department of Planning & Economic Development, 1 South Main Street, 7th Floor Planning, Mount Clements, Michigan 48043.
Send comments to Jeff W. Schroeder, AICP, Department of Planning & Economic Development, 1 South Main Street, 7th Floor Planning, Mount Clements, Michigan 48043.
Armada Township
Maps are available for inspection at 23121 East Main Street, Armada, Michigan 48005.
Send comments to Bonnie Krauss, Zoning Officer, 23121 East Main Street, Armada, Michigan 48005.
Bruce Township
Maps are available for inspection at Township Hall, 223 East Gates Street, Romeo, Michigan 48065.
Send comments to Gary C. Schocke, Supervisor, 223 East Gates Street, Romeo, Michigan 48065.
Chesterfield Township
Maps are available for inspection at Township Office, 47275 Sugarbush Road, Chesterfield Township, Michigan, 48047.
Send comments to Jim Ellis, Supervisor, 47275 Sugarbush Road, Chesterfield Township, Michigan 48047.
City of Fraser
Maps are available for inspection at Building Department, 33000 Garfield Road, Fraser, Michigan, 48026.
Send comments to Jeff W. Bremer, City Manager, 33000 Garfield Road, Fraser, Michigan 48026.
City of Memphis
Maps are available for inspection at City Hall, 35095 Potter Street, Memphis, Michigan 48041.
Send comments to Barton Dunsmore, Superintendent, 35095 Potter Street, Memphis, Michigan 48041.
City of Mount Clemens
Maps are available for inspection at Community Development Department, One Crocker Boulevard, Mount Clemens, Michigan 48043.
Send comments to Honorable Quinnie Cody, Mayor, City of Mount Clemens, One Crocker Boulevard, Mount Clemens, Michigan 48043.
City of New Baltimore
Maps are available for inspection at Project Control Engineering, 36535 Green Street, New Baltimore, Michigan 48047.
Send comments to Honorable Joe Grajek, Mayor, City of New Baltimore, 36535 Green Street, New Baltimore, Michigan 48047.
City of Sterling Heights
Maps are available for inspection at Sterling Heights City Hall, 40555 Utica Road, Sterling Heights, Michigan 48311.
Send comments to Honorable Richard Notte, Mayor, City of Sterling Heights, 40555 Utica Road, Sterling Heights, Michigan 48311.
City of Utica
Maps are available for inspection at City of Utica Administration Offices, 7550 Auburn Road, Utica, Michigan 48317.
Send comments to Honorable Jacqueline Noonan, Mayor, City of Utica, 7550 Auburn Road, Utica, Michigan 48317.
City of Warren
Maps are available for inspection at Building Division, 29500 Van Dyke, Warren, Michigan 48093.
Send comments to Honorable Mark Steenbergh, Mayor, City of Warren, 29500 Van Dyke, Warren, Michigan 48093.
Clinton Township
Maps are available for inspection at Planning & Community Development, 40700 Romeo Plank Road, Clinton Township, Michigan 48038.
Send comments to Robert Cannon, Supervisor, 40700 Romeo Plank Road, Clinton Township, Michigan 48038.
Harrison Township
Maps are available for inspection at Building Department, 38151 L'Anse Creuse Road, Harrison Township, Michigan 48045-1996.
Send comments to Anthony G. Forlini, Supervisor, 38151 L'Anse Creuse Road, Harrison Township, Michigan 48045-1996.
Maps are available for inspection at Village of Grosse Pointe Hall, 795 Lake Shore Road, Grosse Pointe Shores, Michigan 48236.
Send comments to Richard F. Fox, Supervisor, 795 Lake Shore Road, Grosse Pointe Shores, Michigan 48236.
Lenox Township
Maps are available for inspection at Office of the Supervisor, John P. Gardner, 63975 Gratiot Avenue, Lenox, Michigan 48050.
Send comments to John P. Gardner, 63975 Gratiot Avenue, Lenox, Michigan 48050.
Macomb Township
Maps are available for inspection at Macomb Township Building Department, 54111 Broughton Road, Macomb, Michigan 48042.
Send comments to John D. Brennan, Supervisor, 54111 Broughton Road, Macomb, Michigan 48042.
Ray Township
Maps are available for inspection at Township Hall, 64255 Wolcott Road, Ray, Michigan 48062.
Send comments to Charles Bohm, Supervisor, 64255 Wolcott Road, Ray, Michigan 48062.
Richmond Township
Maps are available for inspection at Township Office, 34900 School Section Road, Richmond, Michigan 48062.
Send comments to Keith Rengert, Supervisor, 34900 School Section Road, Richmond, Michigan 48062.
Shelby Township
Maps are available for inspection at 52700 Van Dyke Avenue, Shelby Township, Michigan 48316.
Send comments to Ralph Maccarone, Supervisor, 52700 Van Dyke Avenue, Shelby Township, Michigan 48316.
St. Claire Shores
Maps are available for inspection at Community Development and Inspection Department, 27600 Jefferson Circle Drive, St. Claire Shores, Michigan 48081.
Send comments to Kenneth Podolski, City Manager, 27600 Jefferson Circle Drive, St. Clair Shores, Michigan 48081.
Village of Armada
Maps are available for inspection at Village of Armada, 74274 Burk, Armada, Michigan 48005.
Send comments to President Nancy W. Parmenter, Village President, 74274 Burk, Armada, Michigan 48005.
Village of New Haven
Maps are available for inspection at Village of New Haven, 58725 Havenridge Road, New Haven, Michigan 48048.
Send comments to Michael L. Kras, Building Official, 58725 Havenridge Road, New Haven, Michigan 48048.
Village of Romeo
Maps are available for inspection at Village Clerk Office, 121 West Saint Clair Street, Romeo, Michigan 48065.
Send comments to Paul Reiz, President, 121 West Saint Clair Street, Romeo, Michigan 48065.
Washington Township
Maps are available for inspection at Assessing Department, 57900 Van Dyke Avenue, Washington, Michigan 48094.
Send comments to Gary Kirsh, Supervisor, 57900 Van Dyke Avenue, Washington, Michigan 48094.
Oakland County, Michigan and Incorporated Areas
Clinton River (near Grand Trunk Western R.R. and Maceday Lake) | Approximately 360 feet downstream of I-75 | *1,012 | +1,010 | Township of Independence and City of the Village of Clarkston.
| Approximately 70 feet upstream of Dixie Highway | *975 | +973
Clinton River (near Sylvan Lake) | Approximately 3,100 feet upstream of Cooley Lake Rd | *935 | +934 | Charter Township of Waterford, Township of West Bloomfield, City of Keego Harbor, and City of Pontiac.
| Upstream side of Dawson Millpond Dam | *931 | +928
Clinton River (near Grand Trunk Western R.R. and Galloway Creek) | Approximately 700 feet downstream of Squirrel Road | *845 | +844 | City of Auburn Hills.
| Approximately 50 feet upstream of Hamilin Road | *840 | +837
Duck Creek | Approximately 40 feet downstream of Ortonville Rd. (2nd crossing) | None | +941 | Village of Ortonville.
| At confluence with Kearsley Creek | None | +930
Huron River | Approximately 1,600 feet upstream of Monteagle St. | None | +904 | Village of Milford.
| Approximately 1,900 feet downstream of Peters St. | None | +902
Kearsley Creek | Approximately 20 feet downstream of Granger Road | None | +941 | Village of Ortonville.
| Approximately 10 feet upstream of Oakwood Road | None | +924
Norton Creek | Approximately 3,800 feet downream of 1-96 | None | +927 | City of Wixom.
| Approximately 1,900 feet upream of Buno Road | None | +907
Pebble Creek | Approximately 60 feet upream of Drakeshire Dr. | None | +949 | Township of We Bloomfield.
| Approximately 30 feet upream of 14 Mile Road | *893 | +892
Pettibone Creek | Approximately 2,000 feet upream of Summit eb +930. | None | +949 | Village of Milford.
| At confluence with Huron River | None | +902
Quarton Branch | Approximately 160 feet downstream of Redding Street | *746 | +747 | City of Birmingham.
| Upstream side of Quarton Lake Dam | *736 | +737
Sargent Creek | Approximately 150 feet downstream of Heritage Hills Manor | None | +968 | City of Rochester Hills.
| Approximately 130 feet downstream of Adams Road | None | +941
Hummer Lake |  | None | +1,050 | Township of Brandon.
Seymour Lake |  | None | +1,042 | Township of Brandon.
Lake Louise |  | None | +965 | Township of Brandon
Bald Eagle |  | None | +970 | Township of Brandon.
Square Lake |  | None | +992 | Township of Orion
Elkhorn Lake |  | None | +987 | Township of Orion.
Tommys Lake |  | None | +987 | Township of Orion.
Round Lake |  | None | +986 | Township of Orion.
Lake Sixteen |  | None | +986 | Township of Orion.
Voorheis Lake |  | None | +984 | Town of Orion.
Judah Lake |  | None | +990 | Township of Orion.
Lonesome Lake |  | None | +998 | Township of Orion.
Long Lake |  | None | +968 | Township of Orion.
Bunny Run Lake |  | None | +967 | Township of Orion.
Buckhorn Lake |  | None | +989 | Township of Orion.
Greens Lake |  | None | +998 | Township of Orion.
Dark Lake |  | None | +1,001 | Township of Orion.
Deer Lake |  | *975 | +973 | Township of Independence and City of the Village of Clarkston
Parke Lake |  | *991 | +991 | Township of Independence and City of the Village of Clarkston
Middle Lake |  | *975 | +973 | Township of Independence and City of the Village of Clarkston.
Mill Lake | Downstream of Miller Road | *1,000 | +1,000 | Township of Independence and City of the Village of Clarkston.
| Upstream of Miller Road | None | +1,002 | Independence and City of the Village of Clarkston.
Mill Lake | Approximately 10 feet downstream of Baldwin Road | None | +983 | Township of Orion.
| Approximately 1,700 feet downstream of Waldon Road | None | +981
Lake Orion |  | *987 | +987 | Village of Lake Orion and Township of Orion.
Sylvan Lake |  | *931 | +929 | City of Keego Harbor, City of Pontiac, City of Sylvan Lake, and Charter Township of Waterford.
Cass Lake |  | *932 | +931 | City of Keego Harbor, Township of West Bloomfield, Charter Township of Waterford, and City of Orchard Lake Village.
Dawson Mill Road |  | *932 | +929 | City of Pontiac.
Otter Lake |  | *931 | +929 | Charter Township of Waterford.
+North American Vertical Datum
*National Geodetic Vertical Datum
ADDRESSES
Oakland County
Maps available for inspection at http://www.co.oakland.mi.us/oss/
Send comments to Sudha Maheshwari, GIS Project Manager, 1200 North Telegraph Rd., Building 49 West, Pontiac, MI 48341.
Addison Township
Maps are available for inspection at Addison Township, 1440 Rochester Road, Leonard, MI.
Send comments to A. Robert Koski, Supervisor, 1440 Rochester Road, Leonard, MI 48367.
Bloomfield Township
Maps are available for inspection at Water Department, 4200 Telegraph Road, Bloomfield Hills, MI 48302.
Send comments to Wayne Domine, P.E., Superintendent, Water Department, 4200 Telegraph Road, Bloomfield Hills, MI 48302.
Brandon Township
Maps are available for inspection at Building Department, Brandon Township, 395 Mill Street, Ortonville, MI 48462.
Send comments to Tim Palulian, Community Development Director, 395 Mill Street, Ortonville, MI 48462.
City of Auburn Hills
Maps are available for inspection at Clerk's Office, 1827 North Squirrel Road, Auburn Hills, MI 48326.
Send comments to Shawn Keenan, Storm Water Resources Manager, 1827 N. Squirrel Road, Auburn Hills, MI 48326.
City of Birmingham
Maps are available for inspection at Municipal building, 151 Martin Street, Birmingham, MI 48012.
Send comments to Paul T. O'Meara, Assistant Director of Engineering, 151 Martin Street, Birmingham, MI 48012.
City of Bloomfield Hills
Maps are available for inspection at City of Bloomfield Hills, 45 East Long Lake Road, Bloomfield Hills, MI 48304.
Send comments to David Piche, City Manager, 45 East Long Lake Road, Bloomfield Hills, MI 48304.
City of Farmington
Maps are available for inspection at Public Service Department, 33720 West Nine Mile Road, Farmington, MI 48335.
Send comments to Kevin Gushman, Director of Public Services, 33720 West Nine Mile Road, Farmington, MI 48335.
City of Farmington Hills
Maps are available for inspection at City of Farmington Hills Engineering, 31555 West Eleven Mile Road, Farmington Hills, MI.
Send comments to William Otwell, Jr., City Engineer, 31555 West Eleven Mile Road, Farmington Hills, MI 48336.
City of Keego Harbor
Maps are available for inspection at Keego Harbor City Hall, 2141 Cass Lake Road, Suite # 101, Keego Harbor, MI 48320.
Send comments to John Baczynski, Community Development Director, 2141 Cass Lake Road, Suite #101, Keego Harbor, MI 48320.
City of Lake Angelus
Maps are available for inspection at City Hall, 45 Gallogly Road, Lake Angelus, MI 48326.
Send comments to Heidi Hoyles, Planning Commissioner Flood Management, 104 Gallogly Road, Lake Angelus, MI 48326.
City of Northville
Maps are available for inspection at City Hall, 215 West Main Street, Northville, MI.
Send comments to Richard Starling, Building Official, 215 West Main Street, Northville, MI 48167.
City of Orchard Lake Village
Maps are available for inspection at City Hall, 3955 Orchard Lake Road, Orchard Lake, MI.
Send comments to Janet Overholt Green, Manager, 3955 Orchard Lake Road, Orchard Lake, MI 48323.
City of Pontiac
Maps are available for inspection at City Engineering Department, 55 Wessen Street, Pontiac, MI and Community Development Office, 1200 Featherstone Road, Pontiac, MI.
Send comments to Allan Schneck, City Engineer, 55 Wessen Street, Pontiac, MI 48341.
City of Rochester
Maps are available for inspection at City Hall, 400 Sixth Street, Rochester, MI.
Send comments to Edward Alward, Building Inspector, 400 Sixth Street, Rochester, MI 48307.
City of Rochester Hills
Maps are available for inspection at Department of Public Safety/Engineering Department, 1000 Rochester Hills Drive, Rochester Hills, MI 48309.
Send comments to Scott Cope, Building Inspector, 1000 Rochester Hills Drive, Rochester Hills, MI 48309.
City of South Lyon
Maps are available for inspection at City of South Lyon, 335 South Warren Street, South Lyon, MI.
Send comments to Rodney L. Cook, City Manager, 335 South Warren Street, South Lyon, MI 48178.
City of Southfield
Maps are available for inspection at Engineering Department, 26000 Evergreen Road, Southfield, MI.
Send comments to Brandy Bakita, Stormwater Coordinator, 26000 Evergreen Road, Southfield, MI 48076.
City of Sylvan Lake
Maps are available for inspection at City Hall, 1820 Inverness Street, Sylvan Lake, MI.
Send comments to John Martin, Manager, 1820 Inverness Street, Sylvan Lake, MI 48320.
City of The Village of Clarkston
Maps are available for inspection at City Office, 375 Depot Road, Clarkston, MI.
Send comments to Art Pappas, City Manager, 375 Depot Road, Clarkston, MI 48346.
City of Troy
Maps are available for inspection at Engineering Department, 500 West Big Beaver Road, Troy, MI 48084.
Send comments to Neal Schroeder, P.E., Civil Engineer, 500 West Big Beaver Road, Troy, MI 48084.
City of Walled Lake
Maps are available for inspection at City Hall, 1499 East West Maple Road, Walled Lake, MI 48390.
Send comments to Lloyd Cureton, 1499 East West Maple Road, Walled Lake, MI 48390.
City of Wixom
Maps are available for inspection at Building Department, 49045 Pontiac Tr., Wixom, MI.
Send comments to John Lipchik, Building Official, 49045 Pontiac Tr., Wixom, MI 48393.
Commerce Township
Maps are available for inspection at Commerce Building Department, 2840 Fisher Avenue, Commerce, MI 48390.
Send comments to Jeff Bowdell, Building Official, 2840 Fisher Avenue, Commerce, MI 48390.
Groveland Township
Maps are available for inspection at 4695 Grange Hall Road, Holly, MI.
Send comments to Judy Schulte, Zoning Administrator, 4695 Grange Hall Road, Holly, MI 48442.
Highland Township
Maps are available for inspection at Charter Township of Highland Planning Department, 205 North John Street, Highland, MI.
Send comments to Lisa G. Burkhart, AICP, Zoning Administrator, 205 North John Street, Highland, MI 48357.
Holly Township
Maps are available for inspection at Holly Township Hall, 102 Civic Drive, Holly, MI.
Send comments to Dale M. Smith, Supervisor, 102 Civic Drive, Holly, MI 48442.
Independence Township
Maps are available for inspection at Assessing Department and Building Department, Independence Township 90 North Main Street, Clarkston, MI 48346.
Send comments to David Belcher, Building Department, 90 North Main Street, Clarkston, MI 48346.
Lyon Township
Maps are available for inspection at Giffels-Webster Engineers, Inc., 2871 Bond Street, Rochester Hills, MI 48309 and Charter of Lyon, 58000 Grand River Avenue, New Hudson, MI 48309.
Send comments to Jason Mayer, Project Engineer, Giffels-Webster Engineers, Inc., 2871 Bond Street, Rochester Hills, MI 48309.
Milford Township
Maps are available for inspection at Supervisors Office, 1100 Atlantic, Milford, MI 48381.
Send comments to Donald D. Green, Supervisors Office, 1100 Atlantic, Milford, MI 48381.
Novi Township:
Maps are available for inspection at 4425 Chedworth Drive, Northville, MI 48167.
Send comments to Raymond Schovers, Supervisors, 4425 Chedworth Drive, Northville, MI 48167-8939.
Oakland Township
Maps are available for inspection at Township Hall, 4393 Collins Road, Rochester, MI 48306.
Send comments to Bill Benoit, Building Director, 4393 Collins Road, Rochester, MI 48306.
Orion Township
Maps are available for inspection at Supervisors Office, 2525 Joslyn Road, Lake Orion, MI 48360.
Send comments to Gerald A. Dywasuk, Supervisors Office, 2525 Joslyn Road, Lake Orion, MI 48360.
Rose Township
Maps are available for inspection at Rose Township Hall, 204 Franklin Street, Holly, MI 48442.
Send comments to Dave Schang, Building Official, 204 Franklin Street, Holly, MI 48442.
Southfield Township
Maps are available for inspection at Township Hall, 18550 West Thirteen Mile Road, Southfield Township, MI 48025.
Send comments to Sharon Tischler, Clerk, 18550 West Thirteen Mile Road, Southfield Township, MI 48025.
Village of Beverly Hills
Maps are available for inspection at Village of Beverly Hills, 18500 West Thirteen Mile Road, Beverly Hills, MI 48025.
Send comments to Renzo Spallasso, Engineer, 18500 West Thirteen Mile Road, Beverly Hills, MI 48025.
Village of Bingham Farms:
Maps are available for inspection at 24255 West Thirteen Mile Road, Suite 190, Bingham Farms, MI 48025.
Send comments to Kathryn Hagaman, Clerk, 24255 West Thirteen Mile Road, Suite 190, Bingham Farms, MI 48025.
Village of Franklin
Maps are available for inspection at Village Hall, 32325 Franklin Road, Franklin, MI 48025.
Send comments to Bill Dinnan, Building Official, 32325 Franklin Road, Franklin, MI 48025.
Village of Holly
Maps are available for inspection at Clerk-Treasurer, 202 South Saginaw Street, Holly, MI 48442.
Send comments to Marsha Powers, Clerk “Treasurer, 202 South Saginaw Street, Holly, MI 48442.
Village of Lake Orion
Maps are available for inspection at Village of Orion, 37 East Flint Street, Lake Orion, MI 48362.
Send comments to Jo Ann Tassel, Manager, 37 East Flint Street, Lake Orion, MI 48362.
Village of Milford
Maps are available for inspection at Village Clerk, Ann Collins, 1100 Atlantic Street, Milford, MI 48381.
Send comments to Randy Sapelak, Building and Zoning Official, 1100 Atlantic Street, Milford, MI 48381.
Village of Ortonville
Maps are available for inspection at 476 Mill Street, Ortonville, MI 48462.
Send comments to Paul C. Zelenak, Manager, 476 Mill Street, Ortonville, MI 48462.
Village of Wolverine Lake
Maps are available for inspection at Village Hall, 425 Glengary Road, Wolverine Lake, MI 48390.
Send comments to Timothy Brandt, Building Inspector, 425 Glengary Road, Wolverine Lake, MI 48390.
Waterford Township
Maps are available for inspection at Building and Engineering Department, 5200 Civic Center Drive, Waterford, MI 48329.
Send comments to Stacy St. James, Environmental Coordinator, Engineering Department, 5200 Civic Center Drive, Waterford, MI 48329.
West Bloomfield Township
Maps are available for inspection at West Bloomfield Township, 4550 Walnut Lake Road, West Bloomfield, MI 48325.
Send comments to David Flaisher, Supervisor, 4550 Walnut Lake Road, West Bloomfield, MI 48325.
White Lake Township
Maps are available for inspection at Township Hall, Building Department, 7525 Highland Road, White Lake, MI 48383.
Send comments to Mike Kowall, Supervisor, 7525 Highland Road, White Lake, MI 48383.
Barry County, Missouri and Incorporated Areas
Unnamed Tributary No. 1 | Just upstream of the confluence with Flat Creek | *1,309 | +1,309 | Barry County (Uninc. Areas) and
| Approximately 2,325 upstream of Highway 248 | *1,320 | +1,320 | City of Cassville.
Town Branch | Approximately 750 feet downstream of Main Street | *1,308 | +1,308 | City of Cassville.
| Approximately 2,950 feet upstream of County House Road | *1,350 | +1,350
Brock Branch | Just upstream of the confluence with Flat Creek | *1,310 | +1,310 | City of Cassville.
| Approximately 1,535 feet upstream of the confluence with Flat Creek | *1,318 | +1,319
Hawk Branch | Approximately 1,220 feet downstream of Presley Drive | *1,320 | +1,321 | City of Cassville.
| Approximately 160 feet upstream of Oak Hill Drive | *1,337 | +1,338
Flat Creek | Approximately 1,500 feet downstream of Thirteenth Street | *1,297 | +1,298 | Barry County (Uninc. Areas) and City of Cassville.
| Approximately 3,100 feet upstream of County Bridge | *1,319 | +1,320
Chapel Drain | Just upstream of the confluence with Kelly Creek | None | +1,328 | Barry County (Uninc. Areas) and City of Monett.
| At the intersection of City of Chapel Drain and Cleveland Street (Highway 60) | None | +1,334
Clear Creek | Approximately 850 feet downstream of the confluence with Unnamed Tributary | None | +1,245 | Barry County (Uninc. Areas) and City of Monett.
| Approximately 225 feet Monett upstream of Farm Road 1090 | None | +1,345
Kelly Creek | Approximately 300 feet downstream of Dairy Street | *1,284 | +1,290 | Barry County (Uninc. Areas) and City of Monett.
| Approximately 4,850 City of feet upstream of Chapel Drive | None | +1,353
Unnamed Tributary | Just upstream of the confluence with Clear Creek | None | +1,250 | Barry County (Uninc. Areas) and City of Monett.
| Approximately 1,440 feet upstream of Highway 37 | None | +1,350
Kelly Creek Tributary | Just upstream of the confluence with Clear Creek | None | +1,303 | City of Monett.
| Approximately 3,700 feet upstream of Cleveland Street | None | +1,366
Boys Drain | Just upstream of the confluence with Unnamed Tributary | None | +1,298 | City of Monett.
| Approximately 220 feet upstream of the Sixth Street | None | +1,338
*National Geodetic Vertical Datum
+North American Vertical Datum
ADDRESSES
Barry County (Unincorporated Areas)
Maps are available for inspection at the County Courthouse, 700 Main Street, Cassville, MO 65625.
Send comments to the Honorable Cherry Warren, Presiding Commissioner, Barry County, 700 Main Street, Suite 2, Cassville, MO 65625.
City of Monett
Maps are available for inspection at City Hall, 217 Fifth Street, Monett, MO 65708.
Send comments to the Honorable James Orr, Mayor, City of Monett, P.O Box 110, Monett, MO 65708.
City of Cassville
Maps are available for inspection at City Hall, 300 Main Street, Cassville, MO 65625.
Send comments to the Honorable Jim Craig, Mayor, City of Cassville, 300 Main Street, Cassville, MO 65625.
Harris County, Texas and Incorporated Areas
Adlong Ditch | Approximately 100 feet downstream of Peters Road | None | +62 | Harris County (Uninc. Areas).
| At confluence with Cedar Bayou | None | +42
Armand Bayou | Approximately 1,500 feet upstream of Nasa Road | *11 | +12 | Harris County (Uninc. Areas) and City Of Pasadena
| Approximately 200 feet downstream of Oleander Drive | *30 | +30
B112-02-00 Interconnect | At confluence with B112-02-00 | None | +20 | City of La Porte.
| At confluence with Spring Gully | None | +17
Bear Creek | Approximately 3,500 feet downstream of Katy Hockley Cut-Off Road | *161 | +160 | Harris County (Uninc. Areas) and City of Houston.
| At confluence with Langham Creek | *104 | +101
Beltway 8 Outfall Ditch | Approximately 1,300 feet downstream of Fallbrook Road | None | +106 | Harris County (Uninc. Areas)
| At confluence with White Oak Bayou | *102 | +99
Bender Lake & Continuation of Bender Lake | Approximately 900 feet downstream of Dry Spring Lane | None | +104 | Harris County (Uninc. Areas)
| At confluence with Spring Creek | *89 | +90
Bens Branch | Approximately 300 feet upstream of Northpark Drive | *73 | +73 | City of Houston, Harris County (Uninc. Areas)
| At confluence with West Fork San Jacinto River | *50 | +50
Bering Ditch | Approximately at Olympic Circle | *59 | +52 | City of Houston.
| At confluence with Buffalo Bayou | *56 | +52
Berry Bayou | 600 feet upstream of Evalyn Wilson Park | *35 | +34 | City of Houston and City of South Houston.
| At confluence with Sims Bayou | *17 | +21
Berry Creek (and Unnamed Tributary to Berry Creek) | 200 feet downstream of Wingtip Drive | *42 | +41 | City of Houston.
| At confluence with Berry Bayou | *19 | +21
Big Gulch | Approximately 4,000 feet upstream of Beaumont Highway | *44 | +40 | Harris County of (Uninc. Areas).
| At confluence with Greens Bayou | *24 | +26
Big Island Slough | Approximately 200 feet upstream of McCarthy Road | None | +23 | Harris County (Uninc. Areas), City of Pasadena, and City of La Porte.
| At confluence with Armada Bayou | *12 | +12
Bintliff Ditch | Approximately 100 feet downstream of Bellaire Boulevard | *65 | +64 | City of Houston.
| At confluence with Brays Bayou | *61 | +61
Blacks Branch | Approximately 500 feet upstream of Cantertrot Drive | *65 | +66 | Harris County (Uninc. Areas), and City of Humble.
| At confluence with West Fork San Jacinto River | *63 | +61
Boggs Gully | Approximately 900 feet upstream of Baker Drive | *184 | +179 | Harris County (Uninc. Areas) and City of Tomball.
| At confluence with Spring Creek | *151 | +153
Boggy Bayou | Approximately 300 feet upstream of Willowbend Drive | None | +30 | City of Pasadena.
| At confluence with Buffalo Bayou-Houston Ship Channel | None | +11
Brays Bayou | Approximately 900 feet downstream of Vineyard Drive | *83 | +85 | Harris County of (Uninc. Areas) and City of Houston.
| At confluence with Ship Channel | *12 | +12
Briar Branch | Approximately 500 feet downstream of Blalock Road | *77 | +75 | City of Houston and of City of Spring Valley.
| At confluence with Spring Branch | *52 | +48
Brickhouse Gully | Approximately 500 feet upstream of Gessner Road | *101 | +97 | City of Houston.
| At confluence with White Oak Bayou | *68 | +66
Buffalo Bayou-Houston Ship Channel | Approximately at Phelps Road | *12 | +12 | City of Houston.
| At confluence with San Jacinto River, Houston Ship Channel | *11 | +11
Buffalo Bayou | Approximately 100 feet upstream of Highway 6 | *80 | +77 | City of Houston and City of Piney Point Village.
| At confluence with Ship Channel | *12 | +12
Cane Island Branch | Approximately at Pitts Road | *159 | +158 | Harris County (Uninc. Areas).
| At confluence with Barker Dam | *98 | +97
Caney Creek | Approximately 3,000 feet upstream of Main Street (Extended) | *64 | +63 | City of Houston.
| At confluence with East Fork San Jacinto River | *56 | +58
Cannon Gully | Approximately 100 feet upstream of Kuykendahl Road (Uninc. Areas) | *139 | +138 | Harris County (Uninc. Areas).
| At confluence with Willow Creek | *130 | +130
Carpenter Bayou | Approximately 500 feet upstream of Beaumont Highway | None | +39 | Harris County (Uninc. Areas) and City of Houston.
| At confluence with Ship Channel | *12 | +12
Cary Bayou | Approximately 2,500 feet upstream of Archer Road | *30 | +29 | Harris County (Uninc. Areas) and City of Baytown.
| At confluence with Cedar Bayou | *15 | +14
Cedar Bayou | Approximately 1,500 feet upstream of Huffman Eastgate Road | *72 | +71 | Harris County (Uninc. Areas) and City of Baytown.
| At confluence with Galveston Bay | *12 | +12
Cedar Bayou Diversion Channel | Approximately at Tri City Beach Road | *12 | +12 | Harris County (Uninc. Areas) and City of Baytown.
| At confluence with Galveston Bay | *12 | +12
Channel A to Cypress Creek | Approximately 1,500 feet upstream of Mason Road | *155 | +156 | Harris County (Uninc. Areas).
| At confluence with Channel A | *150 | +149
Channel D to Channel A to Cypress Creek | Approximately 150 feet upstream of Edworthy Road | None | +170 | Harris County (Uninc. Areas).
| At confluence with Channel A | *153 | +154
Chimney Rock Diversion Channel | Approximately 100 feet upstream of Benning Drive | *56 | +57 | City of Houston.
| At confluence with Brays Bayou | *56 | +56
City Ditch | Approximately 500 feet downstream of Bellaire Boulevard | *69 | +66 | City of Houston.
| At confluence with Brays Bayou | *68 | +65
Clawson Ditch | Approximately 200 feet downstream of FM 1942 | None | +45 | Harris County (Uninc. Areas.).
| At confluence with Cedar Bayou | None | +34
Clear Creek | Approximately 2,000 feet downstream of Hiram Clarke Road | *65 | +64 | Harris County (Uninc. Areas), City of Seabrook, City of El Lago, City of Houston, City of Nassau Bay, City of Pearland, and City of Webster.
| At confluence with Galveston Bay | *18 | +18 |
Clodine Ditch | Approximately 7,000 feet upstream of Bridgecrest Court (Extended) | *91 | +93 | City of Houston.
| At confluence with Buffalo Bayou | *80 | +77
Cole Creek | Approximately 100 feet upstream of Fisher Road | *103 | +100 | Harris County (Uninc. Areas) and City of Houston.
| At confluence with White Oak Bayou | *73 | +70
Cotton Patch Bayou | Approximately at Railroad | *12 | +14 | City of Houston and City of Pasadena.
| At confluence with Buffalo Bayou-Houston Ship Channel | *12 | +12
County | Approximately 100 feet upstream of Wisdom Drive | None | +32 | City of Pasadena and City of Deer Park.
| At confluence with Armand Bayou | None | +27
Cow Bayou | 700 feet upstream of Camino Real Boulevard | *11 | +12 | City of Houston and City of Webster.
| At confluence with Clear Creek | *11 | +12
Cypress Creek | Approximately at Harris County Limit | *184 | +185 | Harris County (Uninc. Areas).
| At confluence with Spring Creek | *76 | +78
Dinner Creek | Approximately 3,000 feet upstream of Fry Road | *142 | +142 | Harris County (Uninc. Areas).
| At confluence with Langham Creek | *124 | +119
Dry Creek | Approximately 4,000 feet upstream of Cypresswood Drive | None | +155 | Harris County (Uninc. Areas).
| At confluence with Cypress Creek | *142 | +140
Dry Gully | Approximately 600 feet downstream of Spring Cypress Road | *139 | +137 | Harris County (Uninc. Areas).
| At confluence with Cypress Creek | *113 | +114
E. 13th St. Outfall Channel | Approximately 700 feet downstream of Luella Lane | None | +25 | City of Deer Park.
| At confluence with Patrick Bayou | None | +20
East Fork Goose Creek | Approximately 500 feet downstream of South Road | *28 | +25 | Harris County (Uninc. Areas) and City of Baytown.
| At confluence with Goose Creek | *13 | +15
East Fork Mound Creek | Approximately at Highway 290 | None | +270 | Harris County (Uninc. Areas).
| Approximately at Highway 6 | *247 | +248
East Fork San Jacinto River | Approximately 700 feet upstream of Huffman Cleveland Road | *72 | +72 | Harris County (Uninc. Areas) City of Houston.
| At confluence with Lake Houston | *50 | +50
Faulkey Gully | Approximately 2,000 feet downstream of Telge Road | *158 | +157 | Harris County (Uninc. Areas).
| At confluence with Cypress Creek | *123 | +124
Fondren Diversion Channel | Approximately 900 feet upstream of Garden Road | *67 | +65 | City of Missouri City and City of Houston.
| At confluence with Brays Bayou | *61 | +61
Garners Bayou | Approximtely 600 feet downstream of Humble Westfield Road | *90 | +87 | Harris County (Uninc. Areas), City of Humble, and City of Houston.
| At confluence with Greens Bayou | *57 | +56
Glenmore Ditch | Approximately at Bond Street | *29 | +27 | City of Houston and City of Pasadena.
| At confluence with Buffalo Bayou-Houston Ship Channel | *12 | +12
Goose Creek | Approximately 100 feet downstream of Barbers Hill Road | *42 | +42 | Harris County (Uninc. Areas) and City of Baytown.
| At confluence with Ship Channel | *12 | +12
Greens Bayou | Approximately 400 feet downstream of Cope Land Road | *130 | +128 | Harris County (Uninc. Areas) and City of Houston.
| At confluence with Buffalo Bayou-Houston Ship Channel | *12 | +12
Gum Gully | Approximately 1,000 feet upstream of Stroker Road | *59 | +59 | Harris County (Uninc. Areas).
| At confluence with Jackson Bayou | *29 | +28
Halls Bayou | Approximately at Moselle Road | *104 | +99 | Harris County (Uninc. Areas) and City of Houston.
| At confluence with Greens Bayou | *33 | +36
Halls Road Ditch | Approximately 3,300 feet upstream of Fuqua Road | *41 | +39 | Harris County (Uninc. Areas) and City of Houston.
| At confluence with Clear Creek | *29 | +29
Harris Gully | At Rice Boulevard | None | +46 | City of Houston.
| At confluence with Brays Bayou | None | +41
Horsepen Bayou | Approximately 900 feet downstream of SH3 Highway | *25 | +25 | City of Houston and City of Pasadena.
| At confluence with Armand Bayou | *11 | +12
Horsepen Bayou (City of Baytown) | Approximately 2,500 feet upstream of FM 146 | *20 | +20 | City of Baytown.
| At confluence with Cedar Bayou | *17 | +15
Horsepen Bayou Diversion Channel | Approximately 100 feet upstream of Garden Creek Way | *21 | +20 | City of Houston.
| At confluence with Horsepen Bayou | *20 | +20
Horsepen Creek | Approximately 4,500 feet upstream West Road | None | +135 | Harris County (Uninc. Areas) and City of Houston.
| Approximately at Summerville Lane | *107 | +105
Hughes Gully | Approximately at Lenze Road | *135 | +133 | Harris County (Uninc. Areas).
| At confluence with Willow Creek | *129 | +128
Hunting Bayou | Approximately 500 feet downstream of Jensen Drive | *47 | +46 | City of Houston, City of Galena Park and City of Jacinto City.
| At confluence with Ship Channel | *12 | +12
Jackson Bayou | Approximately 200 feet downstream of Ramsey Road | *49 | +49 | Harris County of (Uninc. Areas).
| At confluence with Ship Channel | *29 | +28
Jordan Gully | Approximately 400 feet downstream of Derric Drive | *68 | +70 | Harris County (Uninc. Areas), City of Houston, and City of Humble.
| At confluence with West Fork San Jacinto River | *61 | +60
Keegans Bayou | Approximately 1,300 feet upstream of Eldridge | *86 | +84 | City of Houston.
| At Braeswood Boulevard | *68 | +64
Kickapoo Creek | Approximately 300 feet downstream of Fiel Store Road | None | +271 | Harris County (Uninc. Areas).
| At confluence with Spring Creek | None | +220
Kothman Gully | Approximately 200 feet downstream of Peachstone Place | *138 | +134 | Harris County (Uninc. Areas).
| At confluence with Seals Gully | *108 | +106
Lake Houston | Approximately at FM 1960 | *50 | +50 | City of Houston.
| At Lake Houston Dam | *50 | +49
Langham Creek (Addicks Reservoir Diversion Channel) | Approximately at Peek Road | *156 | +158 | Harris County (Uninc. Areas) and City of Houston.
| At confluence with Buffalo Bayou | *80 | +76
Lemm Gully | Approximately 800 feet upstream of Louetta Road | *112 | +112 | Harris County (Uninc. Areas).
| At confluence with Cypress Creek | *90 | +91
Little Cedar Bayou | Approximately 100 feet upstream of Southern Pacific Railroad | *21 | +21 | City of La Porte.
| Approximately at South Broadway Street | *13 | +13
Little Cypress Creek | Approximately 3,000 feet downstream of Kermier Road | *221 | +219 | Harris County (Uninc. Areas).
| At confluence with Little Cypress Creek | None | +132
Little Mound Creek | Approximately 1,100 feet downstream of Burton Cemetery Road | *232 | +234 | Harris County (Uninc. Areas).
| At confluence with Mound Creek | *205 | +208
Little Vince Bayou | Approximately at Wichtia Street | *28 | +28 | City of Houston and City of Pasadena.
| At confluence with Vince Bayou | *12 | +12
Little White Oak Bayou | Approximately 200 feet upstream of Rittenhouse | *83 | +81 | City of Houston.
| At confluence with White Oak Bayou | *42 | +38
Luce Bayou | Approximately 4,500 feet upstream of Trent Road (Extended) | *67 | +72 | Harris County (Uninc. Areas) and City of Houston.
| At confluence with East Fork San Jacinto | *50 | +50
Mason Creek (Unnamed Tributary to Mason Creek) | Approximately 100 feet downstream Charlton House Lane | *130 | +135 | Harris County (Uninc. Areas) and City of Houston.
| At confluence with Barker Reservoir | *98 | +97
McGee Gully | Approximately 1,600 feet downstream of North Main Street | *34 | +33 | Harris County (Uninc. Areas).
| At confluence with Cedar Bayou | *18 | +17
Metzler Creek | Approximately 500 feet downstream of Kuykendahl Road | None | +138 | Harris County (Uninc. Areas).
| At confluence with Cannon Gully | *130 | +131
Mexican Gully | Approximately 2,000 feet upstream of confluence with Luce Bayou | *67 | +64 | Harris County (Uninc. Areas).
| At confluence with Luce Bayou | *59 | +64
Mills Branch | Approximately 1,000 feet upstream of Mills Branch Road | None | +73 | City of Houston.
| At confluence with White Oak Creek | *61 | +61
Mound Creek | Approximately 1,500 feet downstream of confluence with Little Mound Creek | *204 | +207 | Harris County (Uninc. Areas).
| Approximately 6,500 feet downstream of Yellowbird Road (Extended) | *192 | +192
North Fork Greens Bayou | Approximately 400 feet downstream of Sablechase Drive | *108 | +108 | Harris County (Uninc. Areas) and City of Houston.
| At confluence with Greens Bayou | *93 | +91
Panther Creek | Approximately at Holland Avenue | *12 | +14 | City of Houston and City of Galena Park.
| At confluence with Buffalo Bayou—Houston Ship Channel | *12 | +12
Patrick Bayou | Approximately 100 feet downstream of Avenue X | None | +25 | City of Houston and City of Deer Park.
| At confluence with Buffalo Bayou—Houston Ship Channel | *12 | +11
Pillot Gully | Approximately 400 feet downstream of Gregson Road | *149 | +145 | Harris County (Uninc. Areas).
| At confluence with Cypress Creek | *118 | +120
Pine Gully (C103-00-00) | 200 feet upstream of Plum Road | *36 | +35 | City of Houston.
| At confluence with Sims Bayou | *15 | +21
Pine Gully (F220-00-00 & F220-03-00) | Approximately at Old Highway 146 | *12 | +12 | Harris County (Uninc. Areas) and City of Seabrook.
| At confluence with Tributary of Pine Gully | *12 | +12
Pine Gully (Q101-00-00) | Approximately at Tri City Beach Road | *12 | +12 | City of Baytown.
| At confluence with Cedar Bayou | *12 | +12
Plum Creek | 150 feet upstream of Fennel Road | *30 | +20 | City of Houston.
| At confluence with Sims Bayou | *15 | +19
Poor Farm Ditch | Approximately 1,000 feet downstream of Milford Street | None | +50 | City of Houston, City of Southside Place, and City of West University Place.
| At confluence with Brays Bayou | None | +48
Private | Approximately 700 feet upstream of Havana Drive | None | +32 | City of Deer Park.
| At confluence with B114-00-00 | None | +32
Reinhardt Bayou | Approximately 4,000 feet downstream John F. Kennedy Service Road | *80 | +78 | City of Houston.
| At confluence with Garners Bayou | *67 | +65
Roan Gully | Approximately 200 feet downstream of Stuebner Airline Road | *150 | +148 | Harris County (Uninc. Areas).
| At confluence with Willow Creek | *137 | +137
Rock Hollow | Approximately 1,400 feet upstream of Mound Road | *208 | +208 | Harris County (Uninc. Areas).
| At confluence with Cypress Creek | *162 | +161
Rolling Fork | Approximately 200 feet upstream of Plum Ridge Drive | *112 | +108 | Harris County (Uninc. Areas).
| At confluence with White Oak Bayou | *99 | +96
Rummel Creek | Approximately at Chatteron Drive | None | +86 | City of Houston.
| At confluence with Buffalo Bayou | None | +66
Salt Water Ditch | 150 feet upstream of Bellfort Avenue | *41 | +41 | City of Houston.
| At confluence with Sims Bayou | *40 | +35
San Jacinto River | Approximately 1,000 feet upstream of I-10 | *14 | +13 | Harris County (Uninc. Areas) and City of Houston.
| Approximately at the downstream fame of Lake Houston Dam | *34 | +33
San Jacinto River-Houston Ship Channel | Approximately at Battleground Road | *15 | +15 | City of Houston.
| At confluence with Galveston Bay | *19 | +19
Schramm Gully | Approximately at Cavalcade | *47 | +46 | City of Houston.
| At confluence with Hunting Bayou | *47 | +46
Schultz Gully | Approximately 700 feet downstream Aldine Westfield Road | *89 | +94 | Harris County (Uninc. Areas).
| At confluence with Cypress Creek | *84 | +84
Seals Gully | Approximately at Rhodes Road | *132 | +134 | Harris County (Uninc. Areas).
| At confluence with Cypress Creek | *98 | +96
Senger Gully | Approximately 500 feet upstream of Old Holzwarth Road | *115 | +113 | Harris County (Uninc. Areas) City of Houston.
| At confluence with Lemm Gully | *90 | +91
Sheldon Reservoir | Approximately 2,500 feet upstream of South Lake Houston Parkway | *49 | +48 | Harris County (Uninc. Areas).
| At confluence with Carpenter Bayou | *49 | +48
Shook Gully | Approximately 5,500 feet upstream of Doverbrook Drive (Extended) | None | +76 | Harris County (Uninc. Areas).
| At confluence with Luce Bayou | *55 | +59
Sims Bayou | 200 feet upstream of Beltway 8 | *70 | +66 | City of Houston.
| At confluence with Ship Channel | *12 | +13
Soldiers Creek | Approximately 200 feet downstream of Piney Point Road | None | +72 | City of Piney Point Village.
| At confluence with Buffalo Bayou | None | +52
South Mayde Creek (Unnamed Tributary to South Mayde Creek) | Approximately 10,500 feet upstream of Katy Hockley Road | *170 | +170 | Harris County (Uninc. Areas).
| At confluence with Addicks Reservoir | *104 | +101
Spring Branch | Approximately at Campbell Road | *81 | +77 | City of Spring Valley and City of Houston.
| At confluence with Buffalo Bayou | *52 | +48
Spring Creek | Approximately 1,000 feet upstream of Waller Gladdish Road | None | +291 | Harris County (Uninc. Areas), City of Houston, and City of Tomball.
| At confluence with West Fork San Jacinto River | *66 | +66
Spring Gully (G109-00-00) | Approximately 1,500 feet upstream of Red Bluff Road | *15 | +14 | City of Pasadena and City of La Porte.
| Approximately 2,500 feet upstream of Fairmont Parkway | None | +17
Spring Gully (K-131-00-00) | Approximately 1,000 feet upstream of Spring Cypress Road | None | +138 | Harris County (Uninc. Areas).
| At confluence with Cypress Creek | *107 | +108
Spring Gully (O200-00-00) | Approximately 1,000 feet downstream of Prairie Road | *36 | +35 | Harris County (Uninc. Areas) and City of Baytown.
| At confluence with Burnett Bay | *12 | +12
Spring Gully (P110-00-00) | Approximately 1,500 feet downstream of Lake Houston Parkway | None | +30 | Harris County (Uninc. Areas).
| At confluence with Greens Bayou | *26 | +29
Spring Gully Diversion Channel | Approximately 200 feet downstream of Spring Gully | *22 | +20 | Harris County (Uninc. Areas).
| At confluence with San Jacinto River | *15 | +13
Sulphur Gully | Approximately 1,500 feet downstream of Flaggstaff Lane | None | +34 | Harris County (Uninc. Areas) and City of Houston.
| At confluence with Greens Bayou | *26 | +28
Swengel Ditch | At East Ocean Drive | None | +42 | City of Houston.
| At confluence with Sims Bayou | None | +40
Taylor Bayou | At Shoreacres Boulevard | *11 | +11 | City of Taylor Lake Village, City of El Lago, and City of Pasadena.
| At confluence with Clear Creek | *11 | +11
Taylor Bayou Diversion Channel | 1,000 feet West of Shady Lane | None | +11 | Harris County (Uninc. Areas) and City of Pasadena.
| At confluence with Taylor Bayou | None | +11
Taylor Gully | Approximately 400 feet upstream of Manor Drive | *72 | +73 | City of Houston.
| At confluence with White Oak Creek | *57 | +59
Theiss Gully & Tributary to Theiss Gully | Approximately 1,700 feet upstream of Suzanne Court | *144 | +144 | Harris County (Uninc. Areas).
| At confluence with Spring Gully | *108 | +108
Tributary 1.61 to Brickhouse Gully | Approximately at Pinemont Drive | *85 | +82 | City of Houston.
| At confluence with Brickhouse Gully | *76 | +71
Tributary 0.12 to Tributary 13.92 | Approximately 2,000 feet upstream of Botkins Road | *216 | +215 | Harris County (Uninc. Areas).
| At confluence with Tributary 13.92 to Little Cypress Creek | *186 | +187
Tributary 0.26 to Willow Creek | Approximately 2,000 feet downstream of Fox Hollow Boulevard | *121 | +120 | Harris County (Uninc. Areas).
| At confluence with Willow Creek | *121 | +120
Tributary 0.55 to Tributary 3.19 Garners | Approximately 100 feet downstream of Houston Avenue | *80 | +77 | Harris County (Uninc. Areas) and City of Humble.
| At confluence with Williams Gully | *65 | +63
Tirbutary 1.25 to Boggs Gully | Approximately 800 feet downstream of Hufsmith Kohrville Road | *173 | +173 | Harris County (Uninc. Areas) and City of Tomball.
| At confluence with Boggs Gully | *158 | +159
Tributary 1.63 to Rock Hollow | Approximately 1.5 miles downstream of Mount Road | *194 | +193 | Harris County (Uninc. Areas).
| At confluence with Rock Hollow | *166 | +165
Tributary 1.78 to Willow Springs Bayou | Approximately 300 feet upstream of North P Street | *27 | +27 | City of Deer Park and City of La Porte.
| At confluence with Willow Springs Bayou | *23 | +20
Tributary 1.95 to North Fork Greens Bayou | Approximately 2,000 feet downstream Bammel Road (FM 1960) | *112 | +108 | Harris County (Uninc. Areas).
| At confluence with Greens Bayou | *95 | +97
Tributary 10.08 to Clear Creek | 2,500 feet downstream of Bay Area Boulevard | *25 | +23 | Harris County (Uninc. Areas).
| At confluence with Clear Creek | *12 | +12
Tributary 10.1 to White Oak Bayou | Approximately 300 feet downstream of Pinemont Drive | None | +80 | City of Houston.
| At confluence with White Oak Bayou | *70 | +71
Tributary 10.46 to Armand Bayou | Approximately 700 feet upstream of Preston Boulevard | None | +33 | City of Pasadena.
| At confluence with Armand Bayou | *22 | +20
Tributary 10.77 to Sims Bayou | Approximately 200 feet downstream of Orem Drive | *43 | +40 | City of Houston.
| At confluence with Sims Bayou | *40 | +36
Tributary 10.99 to Little Cypress Creek | Approximately 300 feet downstream of Cook Road | *213 | +212 | Harris County (Uninc. Areas).
| At confluence with Little Cypress Creek | *174 | +175
Tributary 11.715 to Carpenters Bayou | Approximately 1,700 feet upstream of Beaumont Highway | *46 | +43 | Harris County (Uninc. Areas).
| At confluence with Carpenters Bayou | *40 | +39
Tributary 11.96 to Halls Bayou | Approximately 900 feet downstream of East Carby Street | *76 | +73 | Harris County (Uninc. Areas) and City of Houston.
| At confluence with Halls Bayou | *74 | +73
Tributary 12.05 to Hunting Bayou | Approximately at Wipprecht Street | *51 | +48 | City of Houston.
| At confluence with Hunting Bayou | *45 | +44
Tributary 12.18 to Armand Bayou | Approximately at Beltway 8 | *30 | +30 | City of Pasadena.
| At confluence with Armand Bayou | *26 | +26
Tributary 12.70 to Hunting Bayou | Approximately at Crane Street | *46 | +45 | City of Houston.
| At confluence with Hunting Bayou | *46 | +45
Tributary 13.50 to Willow Creek | Approximately 1,000 feet downstream of FM 2920 | *176 | +174 | Harris County (Uninc. Areas).
| At confluence with Willow Creek | *160 | +160
Tributary 13.83 to Sims Bayou | Approximately 250 feet upstream of Sunbeam | *48 | +42 | City of Houston.
| At confluence with Sims Bayou | *44 | +42
Tributary 13.92 to Little Cypress Creek | Approximately 600 feet downstream of Botkins Road | *201 | +199 | Harris County (Uninc. Areas).
| At confluence with Little Cypress | *186 | +187
Tributary 14.27 to Greens Bayou | Approximately 300 feet downstream of Van Zandt | *64 | +62 | Harris County (Uninc. Areas) and City of Houston.
| At confluence with Greens Bayou | *41 | +43
Tributary 14.82 to Greens Bayou | Approximately 200 feet downstream of Spottswood Drive | None | +63 | Harris County (Uninc. Areas) and City of Houston.
| At confluence with Greens Bayou | *44 | +44
Tributary 15.8 to White Oak Bayou | Approximately 500 feet downstream of Fairbanks North Houston Road | *104 | +100 | Harris County (Uninc. Areas).
| At confluence with White Oak Bayou | *92 | +89
Tributary 17.82 to Sims Bayou | Approximately 100 feet downstream of Airport Boulevard | *53 | +52 | City of Houston.
| At confluence with Sims Bayou | *53 | +52
Tributary 19.05 to White Oak Bayou | Approximately 1,300 feet downstream of Wright Road | *115 | +111 | City of Jersey Village.
| At confluence with White Oak Bayou | *109 | +104
Tributary 19.82 to White Oak Bayou | Approximately at Highway 290 | *117 | +114 | City of Jersey Village.
| At confluence with White Oak Bayou | *111 | +106
Tributary 2.00 to Berry Bayou | 700 feet upstream of College Street | *35 | +33 | City of Houston and City of South Houston.
| At confluence with Berry Bayou | *23 | +24
Tributary 2.01 to Williams Gully | Approximately 1,000 feet downstream of Atascocita Road | *72 | +70 | Harris County (Uninc. Areas).
| At confluence with Williams Gully | *57 | +58
Tributary 2.1 to Spring Gully | Approximately 600 feet upstream of Plymouth Ridge | *133 | +133 | Harris County (Uninc. Areas).
| At confluence with Spring Gully | *116 | +114
Tributary 2.17 to Tributary 52.9 to Upper Buffalo Bayou/ Cane | Approximately 300 feet downstream of Mason Road | *103 | +100 | Harris County (Uninc. Areas).
| At confluence with Tributary 52.9 to Upper Buffalo Bayou/ Cane | *100 | +100
Tributary 2.44 to Willow Creek | Approximately 400 feet downstream of Alderley Road | *135 | +135 | Harris County (Uninc. Areas).
| At confluence with Willow Creek | *123 | +123
Tributary 2.70 to Gum Gully | Approximately 1,200 feet upstream of Humble Crosby Road | *52 | +51 | Harris County (Uninc. Areas).
| At confluence with Gum Gully | *33 | +35
Tributary 20.25 to Sims Bayou | Approximately 500 feet downstream of Melanite | None | +59 | City of Houston.
| At confluence with Sims Bayou | *57 | +55
Tributary 20.86 to Brays Bayou | Approximately 100 feet downstream of Southern Pacific Railroad | *74 | +72 | City of Houston.
| At confluence with Brays Bayou | *69 | +67
Tributary 20.88 to Greens Bayou | Approximately 200 feet downstream IH 59 | *70 | +68 | Harris County (Uninc. Areas) City of Houston.
| At confluence with Greens Bayou | *59 | +59
Tributary 20.90 to Brays Bayou | Approximately 200 feet upstream of Cook Road | None | +81 | City of Houston.
| At confluence with Brays Bayou | *69 | +67
Tributary 21.08 to Spring Creek | Approximately 250 feet downstream of Railroad | None | +131 | Harris County (Uninc. Areas).
| At confluence with Spring Creek | *119 | +118
Tributary 21.95 to Brays Bayou | Approximately 1,000 feet downstream of Wilcrest Drive | *72 | +71 | City of Houston.
| Approximately at Synott Road | *82 | +80
Tributary 22.69 to Brays Bayou | Approximately 400 feet upstream of Richmond Avenue | *74 | +72 | City of Houston
| Approximately 500 feet downstream of High Star Drive | *74 | +72
Tributary 23.53 to Brays Bayou | Approximately 100 feet downstream of Metro Boulevard | None | +80 | Harris County (Uninc. Areas) and City of Houston.
| At confluence with Brays Bayou | *75 | +73
Tributary 24.97 to Greens Bayou | Approximately 350 feet downstream IH 45 | *86 | +82 | Harris County (Uninc. Areas) and City of Houston.
| At confluence with Greens Bayou | *69 | +68
Tributary 26.20 to Brays Bayou | Approximately 2,000 feet upstream of Piping Rock Road | *84 | +82 | Harris County (Uninc. Areas) and City of Houston.
| At confluence with Bray Bayou | *79 | +78
Tributary 26.64 to Greens Bayou-Hoods Bayou | Approximately 2,000 feet upstream Farrell Road | 99 | +98 | Harris County (Uninc. Areas) and City of Houston.
| At confluence with Greens Bayou | *73 | +73
Tributary 29.16 to Brays Bayou | Approximately 400 feet upstream of Addicks Clodine Road | *85 | +85 | Harris County (Uninc. Areas).
| At confluence with Brays Bayou | *83 | +84
Tributary 3.08 to Gum Gully | Approximately 7,500 feet upstream of Golf Club Drive | None | +56 | Harris County (Uninc. Areas).
| At confluence with Gum Gully | *35 | +36
Tributary 3.10 to | 3,000 feet downstream of Red Bluff Road | *11 | *11 | Harris County (Uninc. Areas).
| At confluence with Taylor Bayou | *11 | *11 |
Tributary 3.19 to | Approximately 150 feet downstream Wilson Road | *72 | +71 | Harris County (Uninc. Areas) and City of Houston.
| At confluence with Garners Bayou | *62 | +61 |
Tributary 3.31 to Berry Bayou | 100 feet upstream of Princess Drive | *35 | +34 | City of Houston
| At confluence with Berry Bayou | *31 | +29 | City of South Houston.
Tributary 3.33 to Carpenters Bayou | Approximately 700 feet downstream of Ashland Drive | *29 | +28 | Harris County (Uninc. Areas.
| At confluence with Carpenters Bayou | *13 | +14 |
Tributary 3.36 to Taylor Bayou | 1,000 feet downstream of Choates Road | *11 | +11 | Harris County (Uninc. Areas).
| At confluence with Taylor Bayou | *11 | +11 |
Tributary 3.9 to Turkey Creek | Approximately 300 feet downstream West Little York Road | None | +110 | Harris County (Uninc. Areas) City of Houston.
| At confluence with Turkey Creek | *104 | +101 |
Tributary 3.93 to Taylor Bayou | 500 feet West of Railroad | *11 | +11 | Harris County (Uninc. Areas) and City of Pasadena.
| At confluence with Taylor Bayou | *11 | +11 |
Tributary 32.23 to Greens Bayou | Approximately 200 feet downstream Spears Road | *103 | +98 | Harris County (Uninc. Areas.
| At confluence with Greens Bayou | *95 | *92 |
Tributary 34.60 to Greens Bayou | Approximately 300 feet downstream Antoine Drive | *106 | +103 | Harris County (Uninc. Areas.
| At confluence with Greens Bayou | *103 | +99 |
Tributary 36.6 to Cypress Creek | Approximately 6,000 feet upstream of Access Road | *153 | +152 | Harris County (Uninc. Areas.
| At confluence with Cypress Creek | *148 | +147 |
Tributary 37.1 to Cypress Creek | Approximately 1,000 feet downstream of Highway 290 | *154 | +153 | Harris County (Uninc. Areas).
| At confluence with Cypress Creek | *149 | +148 |
Tributary 4.51 to Horsepen Bayou | Approximately 600 feet upstream of Space Center Boulevard | *22 | +22 | City of Houston.
| At confluence with Horsepen Bayou | *19 | +19 |
Tributary 4.96 to Mason Creek | Approximately 7,800 feet upstream of Peek Road South | *135 | +135 | Harris County (Uninc. Areas) and City of Houston.
| At confluence with Mason Creek | *125 | +122 |
Tributary 40.7 to Cypress Creek | Approximately 1,500 feet downstream of Highway 290 | *195 | +198 | Harris County (Uninc. Areas).
| At confluence with Cypress Creek | *157 | +156 |
Tributary 42.7 to Cypress Creek | Approximately 2 miles upstream of Jack Road | *195 | +197 | Harris County (Uninc. Areas).
| At confluence with Cypress Creek | *160 | +159 |
Tributary 44.5 to Cypress Creek | Approximately 3,800 feet downstream of Mound Road | *206 | +208 | Harris County (Uninc. Areas).
| At confluence with Cypress Creek | *166 | +164 |
Tributary 5.44 to Horsepen Bayou | 200 feet upstream of Crescent Land | None | +21 | City of Houston.
| At confluence with Horsepen Bayou | *21 | +21 |
Tributary 52.9 to Upper Buffalo Bayou/Cane | Approximately 3,000 feet downstream Highland Knolls Drive | *101 | +102 | Harris County (Uninc. Areas) and City of Houston.
| At confluence with Cane Island Branch | *98 | +97 |
Tributary 6.71 to Halls Bayou | Approximately 200 feet downstream of Mount Houston | None | +62 | Harris County (Uninc. Areas) and City of Houston.
| At confluence with Halls Bayou | *58 | +56 |
Tributary 6.77 to Buffalo Bayou | Approximately 400 feet upstream of First Street | *12 | +12 | City of Houston.
| At confluence with Buffalo Bayou-Houston Ship Channel | *12 | +12 |
Tributary 7.62 to Mound Creek | Approximately 600 feet upstream of Burton Cemetery Road (Extended) | *225 | +227 | Harris County (Uninc. Areas).
| Approximately at Burton Cemetery Road (Extended) | *221 | +225 |
Tributary 8.16 to Willow Creek | Approximately 2,000 feet downstream of Mahaffey Road | *158 | +158 | Harris County (Uninc. Areas.
| At confluence with Willow Creek | *145 | +143 |
Tributary 9.36 to Little Cypress Creek | Approximately 800 feet downstream of Bauer Hockley Road | None | +174 | Harris County (Uninc. Areas).
| At confluence with Little Cypress Creek | *167 | +168 |
Tributary 9.39 to Armand Bayou | Approximately 6,000 feet downstream of Farley Road | *28 | −28 | City of Houston
| At confluence with Armand Bayou | *19 | −18 | City of Pasadena.
Tributary 9.4 to South Mayde Creek | Approximately at Katy Hockley Cut-off Road | *148 | +147 | Harris County (Uninc. Areas).
| At confluence with South Mayde Creek | *122 | +125 |
Tributary B to Willow Springs Bayou | Approximately 150 feet upstream of Amy Drive | None | +26 | City of Deer Park.
| At confluence with Willow Springs Bayou | None | +26 |
Tributary to Spring Gully | Approximately 1,200 feet upstream of T.C. Jester Boulevard | *139 | +139 | Harris County (Uninc. Areas).
| At confluence with Spring Gul | *122 | +123 |
Tributary to Turkey Creek | Approximately 200 feet upstream of Farrel Road | None | +81 | City of Houston.
| At confluence with Turkey Creek | None | +78 |
Turkey Creek (A119-00-00) | At Sageglen Road | *30 | 31 | Harris County (Uninc. Areas) and City of Houston.
| At confluence with Clear Creek | *28 | −28 |
Turkey Creek (K111-00-00) | Approximately at Willow West Drive | *106 | +105 | Harris County (Uninc. Areas) and City of Houston.
| At confluence with Cypress Creek | *76 | +78 |
Turkey Creek and Continuation of Turkey Creek | Approximately 200 feet downstream of West Little York Road | *110 | +106 | Harris County (Uninc. Areas) and City of Houston.
| At confluence with Buffalo Bayou | *79 | +75 |
TxDOT Ditch #4 | Approximately 1,700 feet downstream Houston Avenue | *62 | +60 | Harris County (Uninc. Areas) and Cities of Houston and Humble.
| At confluence with Jordan Gully | *61 | +60 |
Unnamed Tributary of Buffalo Bayou (W157-00-00) | Approximately 500 feet downstream of Westheimer Road | None | +71 | City of Houston
| At confluence with Buffalo Bayou | None | +67 |
Unnamed Tributary to (A119-07-00) | 1,000 feet upstream of Conklin Lane | None | +32 | City of Houston.
| At confluence with A119-07-02 | None | +31 |
Unnamed Tributary to B114-00-)) | Approximately 100 feet downstream of Kalwick Drive | None | +32 | City of Deer Park.
| At confluence with B114-00-00 | None | +32 |
Unnamed Tributary to Bear Creek | Approximately 100 feet downstream Judyleigh Drive | None | +117 | Harris County (Uninc. Areas) and City of Houston.
| At confluence with Beaqr Creek | None | +103 |
Unnamed Tributary to Buffalo Bayou (W170-00-00) | Approximately 100 feet upstream of Barker Clodine Road | None | +101 | Harris County (Uninc. Areas) and City of Houston.
| At confluence with Buffalo Bayou | None | +77 |
Unnamed Tributary to Cedar Bayou | Approximately 200 feet downstream of Crosby Eastgate Road | None | +60 | Harris County (Uninc. Areas).
| At confluence with Cedar Bayou | None | +52 |
Unnamed Tributary to Cow Bayou | 100 feet upstream of Camino Real Boulevard | *16 | +12 | City of Houston and City of Weber.
| At confluence with Cow Bayou | *11 | +12 |
Unmanned Tributary to Greens Bayou (P-147-00-00) | Approximately 1,200 feet downstream Antoine Drive | None | +104 | City of Houston.
| At confluence with Green Bayou | None | +93 |
Unnamed Tributary to Greens Bayou (P114-00-00) | Approximately 200 feet downstream of Mesa Drive | None | +38 | City of Houston.
| At confluence with Green Bayou | None | +32 |
Unnamed Tributary to Greens Bayou (P155-00-00 | Approximately 200 feet downstream of P140-00-00 | *79 | +80 | Harris County (Uninc. Areas) and City of Houston.
| At confluence with Greens Bayou | *79 | +78 |
Unnamed Tributary to Greens Bayou (P156-00-00) | Approximately 400 feet upstream of Goodnight Trail | *82 | +82 | Harris County (Uninc. Areas) and City of Houston.
| At confluence with Greens Bayou | *82 | +80 |
Unnamed Tributary to San Jacinto River (G103-01-00) | Approximately at Pine Street | None | +26 | Harris County (Uninc. Atreas).
| At confluence with San Jacinto River | None | +11 |
Unnamed Tributary to San Jacino River (G103-07-00) | Approximately 600 feet downstream of Miller Road No. 2 | None | +41 | Harris County (Uninc. Areas).
| At confluence with San Jacinto River | None |  |
Unnamed Tributary to Turkey Creek (A119-05-00) | 250 feet downstream of SH 3 | None | +32 | City of Houston.
| At confluence with Turkey Creek | None | +30 |
Unnamed Tributary to Turkey Creek (A119-07-00) | 600 feet upstream of confluence with Turkey Creek | None | +31 | City of Houston.
| At confluence with Turkey Creek | None | +31 |
Unnamed Tributary to White Oak Bayou | Approximately 150 feet downstream of Round Bank Drive | None | +104 | Harris County (Uninc. Areas) and City of Houston.
| At confluence with White Oak Bayou | None | +85 |
Unnamed Tributary to Willow Creek | Approximately 300 feet upstream of Elberry Road | None | +123 | Harris County (Uninc. Areas).
| At confluence with Willow Creek | None | +123 |
Vince Bayou | Approximately at Fairmount Parkway | *35 | +33 | City of Houston and City of Pasedena.
| At confluence with Skip Channel | *12 | +12 |
Vogel Creek | Approximately 300 feet downstream of Fallbrook Road | *109 | +104 | Harris County (Uninc. Areas) and City of Houston.
| At confluence with White Oak Bayou | *77 | +74 |
Wallisville Outfall | Approximately 200 feet downstream of Gelhorn Drive | *35 | +36 | City of Houston.
| At confluence with Hunting Bayou | *25 | +26 |
West Fork San Jacinto River | Approximately 600 feet upstream of US Highway 59 | *68 | +68 | Harris County (Uninc. Areas), City of Humble, and City of Houston.
| At confluence with Lake Houston | *50 | +50 |
White Oak Bayou | Approximately 200 feet downstream of Highway 290 | None | +131 | Harris County (uninc. Areas), City of Houston, and City of Jersey Village.
| Approximately at I-10 | *38 | +35 |
White Oak Creek | Approximately 1,800 feet upstream of Hueni Road | *65 | +63 | City of Houston.
| At confluence with Caney Creek | *56 | +58 |
Wild Cow Gulch | Approximately at Hickory Gate Drive | *90 | +95 | Harris County (Uninc. Areas).
| At confluence with Cypress Creek | *76 | +78 |
Williams Gully | Approximately 300 feet upstream of Will Clayton Parkway | *62 | +63 | Harris County (Uninc. Areas).
| At confluence with Garners Bayou | *57 | +58 |
Willow Creek & Continuation of Willow Creek | Approximately 6,500 feet upstream of Juergen Road | *196 | +201 | Harris County (Uninc. Areas).
| At confluence with Spring Creek | *121 | +120 |
Willow Springs Bayou | Approximately 300 feet downstream of Luella Lane | *26 | +27 | Harris County (Uninc. Areas), City of Pasadena, City of Deer Park, City of La Porte.
| At confluence with Armand Bayou | *21 | +20 |
Willow Waterhole Bayou | At Braewick Drive | None | +59 | City of Houston.
| At confluence with Brays Bayou | *52 | +52 |
Wunsche Gully | Approximately 2,000 feet East of Wuensche Road | *127 | +125 | Harris County (Uninc. Areas) and City of Houston.
| At confluence with Lemm Gully | *104 | +97 |
*National Geodetic Vertical Datum (to convert to NAVD, add 4.2 feet to NGVD elevation)
+North American Vertical Datum
ADDRESSES
Harris County (Unincorporated Areas)
Maps are available for inspection at 10000 Northwest Freeway, Suite 102, Houston, TX 77092.
Send comments to Robert Eckels, County Judge, Harris County, 1001 Preston, Suite 911, Houston, TX 77002.
City of Baytown
Maps are available for inspection at 2401 Market Street, Baytown, TX 77520.
Send comments to Calvin Mundinger, Mayor, 2401 Market Street, Baytown, TX 77520.
City of Bellaire
Maps are available for inspection at 7008 South Rice Avenue, Bellaire, TX 77401.
Send comments to Cindy Siegel, Mayor, 7008 South Rice Avenue, Bellaire, TX 77401.
City of Bunker Hill Village
Maps are available for inspection at 10000 Northwest Freeway, Suite 102, Houston, TX 77092.
Send comments to Bill Marshall, Mayor, 11977 Memorial Drive, Houston, TX 77024.
City of Chelford M.U.D.
Maps are available for inspection at Putney, Moffatt & Easley Inc., 1301 Sherwood Forest, Houston, TX 77043.
Send comments to Carl Peters, President of the Board, 3 Greenway Plaza, Houston, TX 77046.
City of Deer Park
Maps are available for inspection at 710 East Saint Augustine Street, Deer Park, TX 77536.
Send comments to Wayne Riddle, Mayor, 710 East Saint Augustine Street, Deer Park, TX 77536.
City of El Largo
Maps are available for inspection at 98 Lakeshore Drive, El Lago, TX 77586.
Send comments to Brad Emel, Mayor, 98 Lakeshore Drive, El Lago, TX 77586.
City of Galena Park
Maps are available for inspection at 2000 Clinton Drive, Galena Park, TX 77547
Send comments to R.P. Bobby Barrett, Mayor, 2000 Clinton Drive, Galena Park, TX 77547.
City of Hedwig Village
Maps are available for inspection at 10000 Northwest Freeway, Suite 102, Houston, TX 77092.
Send comments to Dee Srinivasan, Mayor, 955 Piney Point Road, Houston, TX 77024.
City of Hillshire Village
Maps are available for inspection at 8389 Westview Drive, Houston, TX 77055.
Send comments to Edward J. Davis, Mayor, 8301 Westview, Houston, TX 77055.
City of Houston
Maps are available for inspection at 901 Bagby, Houston TX 77002.
Send comments to Bill White, Mayor, 901 Bagby, Houston, TX 77002.
Maps are available for inspection at 114 West Higgins, Humble, TX 77338.
Send comments to the Honorable Wilson Archer, Mayor, City of Humble, 114 West Higgins, Humble, TX 77338.
City of Jacinto City
Maps are available for inspection at 10301 Market Street Road, Houston, TX 77029.
Send comments to Mike Jackson, Mayor, 10301 Market Street Road, Houston, TX 77029.
City of Jersey Village
Maps are available for inspection at 16501 Jersey Drive, Houston, TX 77040.
Send comments to Ed Heathcott, Mayor, 16501 Jersey Drive, Houston, TX 77040.
City of La Porte
Maps are available for inspection at 604 West Fairmont Parkway, La Porte, TX 77571.
Send comments to Alton E. Porter, Mayor, 604 West Fairmont Parkway, La Porte, TX 77571.
City of Missouri City
Maps are available for inspection at 1522 Texas Parkway, Missouri City, TX 77489.
Send comments to Allen Owen, Mayor, 1522 Texas Parkway, Missouri City, TX 77489.
City of Morgans Point
Maps are available for inspection at 1415 East Main Street, Morgans Point, TX 77571.
Send comments to Peggy Arisco, Mayor, 1415 East Main Street, Morgans Point, TX 77571.
City of Nassau Bay
Maps are available for inspection at 1800 NASA Road One, Nassau Bay, TX 77058.
Send comments to Donald Matter, Mayor, 1800 NASA Parkway, Nassau Bay 77058.
City of Pasadena
Maps are available for inspection at 1211 East Southmore, Pasadena, TX 77502.
Send comments to John Manlove, Mayor, 1211 East Southmore, Pasadena, TX 77502.
City of Pearland
Maps are available for inspection at 3519 Liberty Drive, Pearland, TX 77581.
Send comments to Tom Reid, Mayor, 3519 Liberty Drive, Pearland, TX 77581.
City of Piney Village
Maps are available for inspection at 7721 San Felipe, Houston, TX 77063.
Send comments to Carol Fox, Mayor, 7721 San Felipe, Houston, TX 77063.
City of Seabrook
Maps are available for inspection at 1700 First Street, Seabrook, TX 77586.
Send comments to Robin Riley, Mayor, 1700 First Street, Seabrook, TX 77586.
City of Shoreacres
Maps are available for inspection at 601 Shoreacres Blvd, La Porte, TX 77571.
Send comments to Nancy Edmonson, Mayor, 601 Shoreacres, La Porte, TX 77571.
City of South Houston
Maps are available for inspection at 1018 Dallas Street, South Houston, TX 77587.
Send comments to Eloise Smith, Mayor, 1018 Dallas Street, South Houston, TX 77587.
City of Southside Place
Maps are available for inspection at 6309 Edloe Street, Houston, TX 77005.
Send comments to Richard Rothfelder, Mayor, 6309 Edloe Avenue, Houston, TX 77005.
City of Spring Valley
Maps are available for inspection at 1025 Campbell Road, Houston, TX 77055.
Send comments to Mike Andrews, Mayor, 1025 Campbell Road, Houston, TX 77055.
City of Stafford
Maps are available for inspection at 2610 South Main Street, Stafford, TX 77477.
Send comments to Leonard Scarcella, Mayor, 2610 South Main Street, Stafford, TX 77477.
City of Taylor Lake Village
Maps are available for inspection at 500 Kirby, Seabrook, TX 77586.
Send comments to Natalie O'Neil, Mayor, 500 Kirby, Taylor Lake Village, TX 77586.
City of Tomball
Maps are available for inspection at 401 West Market Street, Tomball, TX 77375.
Send comments to H.G. Harrington, Mayor, 401 Market Street, Tomball, TX 77375.
City of Webster
Maps are available for inspection at 311 Pennsylvania Ave, Webster, TX 77598.
Send comments to Donna Rogers, Mayor, 101 Pennsylvania, Webster, TX 77598.
City of West University Place
Maps are available for inspection at 3826 Amherst Street, West University Place, TX 77005.
Send comments to Burt Ballanfant, Mayor, 3800 University Boulevard, West University, TX 77005.
Kingsbridge M.U.D.
Maps are available for inspection at 14526 Royal Hill Drive, Houston, TX 77093.
Send comments to Robert C. Shindler, President of the Board, 14526 Royal Hill Drive, Houston, TX 77093.
Mission Bend M.U.D. #1
Maps are available for inspection at 10000 Northwest Freeway, Suite 102, Houston, TX 77092.
Send comments to Herb McDonald, President of the Board, 2300 First City Tower, Houston, TX 77002.
Mission Bend M.U.D. #1
Maps are available for inspection at Moffatt-Easley Inc, 1303 Sherwood Forest, Houston, TX 77043.
Send comments to Herb McDonald, President of the Board, 2300 First City Tower, Houston, TX 77002.
West Keegans Bayou Improvement District
Maps are available for inspection at 5757 Woodway, Houston, TX 77057.
Send comments to Sandra Weider, President of the Board, 15014 Tramore, Houston, TX 77083.
Willow Fork Drainage District
Maps are available for inspection at Turner, Collie & Braden, 5757 Woodway, Houston, TX 77057.
Send comments to Neal Bishop, President of the Board, 5757 Woodway, Houston, TX 77057.

(Catalog of Federal Domestic Assistance No. 83.100, “Flood Insurance.”)
Dated June 29, 2005.
David I. Maurstad,
Acting Director, Mitigation Division, Emergency Preparedness and Response Directorate.

[FR Doc. 05-13442 Filed 7-7-05; 845 am]

BILLING CODE 9110-12-P